DEPARTMENT OF COMMERCE

National Oceanic and Atmospheric Administration

RIN 0648-AY26

Fisheries of the Northeastern United States; Atlantic Mackerel, Squid, and Butterfish Fisheries; Scoping Process

AGENCY: National Marine Fisheries Service (NMFS), National Oceanic and Atmospheric Administration (NOAA), Commerce.

ACTION: Notice of intent to prepare an environmental impact statement (EIS); notice of initiation of scoping process; notice of scoping meetings; request for comments.

SUMMARY: The Mid-Atlantic Fishery Management Council (Council) announces its intent to prepare an amendment (Amendment 14) to the Fishery Management Plan (FMP) for Atlantic Mackerel, Squid, and Butterfish (MSB) and to prepare an EIS to analyze the impacts of any proposed management measures. This amendment may address one or more of the following issues: The implementation of catch share systems for the squid fisheries; the need for additional fishery monitoring to determine the significance of river herring and shad incidental catch in the MSB fisheries; and the effectiveness and impacts of management measures to minimize bycatch and/or incidental catch of river herrings and shads. The Council is initiating a public process to determine the scope of alternatives to be addressed in the amendment and EIS. NMFS and the Council are alerting the interested public of the commencement of the scoping process and providing for public participation in compliance with environmental documentation requirements.

DATES: Public comments on Amendment 14 scoping must be received no later than 5 p.m., eastern standard time, on July 9, 2010.

ADDRESSES: Written comments on Amendment 14 may be sent by any of the following methods:

• E-mail to the following address: info1@mafmc.org. Include “Scoping Comments on MSB 14” in the subject line;

• Mail to Dan Furlong, Executive Director, Mid-Atlantic Fishery Management Council, 800 North State Street, Suite 201, Dover, DE 19901. Mark the outside of the envelope “Scoping Comments on MSB 14;” or

• Fax to Dan Furlong, (302) 674-5399. Include “Scoping Comments on MSB 14” in the fax.

Requests for copies of the scoping document and other information should be directed to Dan Furlong, Executive Director, Mid-Atlantic Fishery Management Council, 800 North State Street, Suite 201, Dover, DE 19901, toll-free telephone: (877) 446-2362. The scoping document is also accessible via the Internet at http://www.mafmc.org/fmp/msb.htm.

FOR FURTHER INFORMATION CONTACT: Dan Furlong, Executive Director, Mid-Atlantic Fishery Management Council. Toll-free telephone: (877) 446-2362.

SUPPLEMENTARY INFORMATION:

Background

The Council initiated Amendment 14 to the MSB FMP for two reasons: (1) There are concerns among some stakeholders that there may be too much harvesting capacity in the squid (both Loligo and Illex) fisheries and that uncontrolled activation of latent capacity could cause negative economic effects for participants. Implementation of catch shares may address some of these concerns; and (2) There is concern by some stakeholders that more should be done to monitor and/or minimize the incidental catch of river herrings (blueback and alewife) and shads (American and hickory) in the MSB fisheries, especially given the currently low levels of monitoring in the MSB fisheries and the likely poor stock status of shads and river herrings.

Related to the first concern, this amendment may address one or more of the following issues: The implementation of catch share systems for the squid fisheries to further refine the existing management process, the biological and socio-economic outcomes of a catch share system and how such outcomes depend on specific program design features, and the possible need for changes to existing information collection processes if a catch share system is implemented. Related to the second concern, the amendment may address: The need for additional fishery monitoring to determine the significance of river herring and shad incidental catch in the MSB fisheries, and the effectiveness and impacts of possible management measures to minimize bycatch and/or incidental catch of river herrings and shads in the MSB fisheries.

The Council will gather information during the scoping period. This is the first and best opportunity for members of the public to raise concerns related to the scope of issues that will be considered in Amendment 14. The Council needs your input both to identify management issues and develop effective alternatives. Your comments early in the amendment development process will help us address issues of public concern in a thorough and appropriate manner. Comments can be made in writing or made verbally during the scoping hearings. The Council announced the scoping meeting dates in a separate Federal Register notice published on May 27, 2010 (75 FR 29725). If the Council decides to move forward with Amendment 14, the Council will develop a range of management alternatives to be considered and prepare an EIS to analyze the impacts of the management alternatives being considered as required by the National Environmental Policy Act. Impacts may be direct, individual, or cumulative. A draft EIS will be distributed for public review. During a 45-day public comment period, which will include public hearings, the public may comment on the draft EIS. Following a review of the comments, the Council will then choose final preferred management measures for submission with the final EIS to the Secretary of Commerce for publishing of a proposed and then final rule, both of which have additional comment periods.

Scoping Hearing Schedule

Scoping hearings will be held on the following dates:

June 14, 2010, 7 p.m. - 9 p.m.: Hilton Garden Inn, Providence Airport/Warwick, One Thuber Street, Warwick, RI 02886, 401-734-9600;

June 15, 2010, 7 p.m. - 9 p.m.: Holiday Inn Express East End, 1707 Old country Rd., Route 58, Riverhead, NY 11901, 631-548-1000;

June 17, 2010, 7 p.m. - 9 p.m.: Congress Hall, 251 Beach Ave, Cape May, NJ 08204, 609-884-6592; and

June 23, 2010, 7 p.m. - 9 p.m.: Virginia Marine Resources Commission, 2600 Washington Avenue, 3rd Floor, Newport News, VA 23607.

Special Accommodations

The scoping hearings are accessible to people with physical disabilities. Requests for sign language interpretation or other auxiliary aids should be directed to Dan Furlong (see ADDRESSES above) at least 5 days prior to the meeting date.

Authority: 16 U.S.C. 1801 et seq.

Dated: June 4, 2010.
Carrie Selberg,
Acting Director, Office of Sustainable Fisheries, National Marine Fisheries Service.

[FR Doc. 2010-13861 Filed 6-4-10; 4:15 am]

BILLING CODE 3510-22-S